DEPARTMENT OF ENERGY

Federal Energy Regulatory Commission

Combined Notice of Filings #1

Take notice that the Commission received the following electric corporate filings:

Docket Numbers: EC20-76-000.

Applicants: NorthWestern Corporation, Puget Sound Energy, Inc.

Description: Joint Application for Authorization Under Section 203 of the Federal Power Act, et al. of NorthWestern Corporation, et al.

Filed Date: 6/23/20.

Accession Number: 20200623-5267.

Comments Due: 5 p.m. ET 8/24/20.

Take notice that the Commission received the following electric rate filings:

Docket Numbers: ER10-1790-018; ER10-2597-005.

Applicants: BP Energy Company, Fowler Ridge III Wind Farm LLC.

Description: Market Power Update for Northeast Region of BP Energy Company, et al.

Filed Date: 6/24/20.

Accession Number: 20200624-5205.

Comments Due: 5 p.m. ET 8/24/20.

Docket Numbers: ER10-2924-014.

Applicants: Kleen Energy Systems, LLC.

Description: Triennial Compliance Filing of Kleen Energy Systems, LLC.

Filed Date: 6/24/20.

Accession Number: 20200624-5183.

Comments Due: 5 p.m. ET 8/24/20.

Docket Numbers: ER11-2041-015; ER11-2042-015.

Applicants: Innovative Energy Systems, LLC, Seneca Energy II, LLC.

Description: Triennial Compliance Filing of Innovative Energy Systems, LLC, et al.

Filed Date: 6/24/20.

Accession Number: 20200624-5187.

Comments Due: 5 p.m. ET 8/24/20.

Docket Numbers: ER11-3861-015.

Applicants: Empire Generating Co, LLC.

Description: Triennial Market Power Analysis of Empire Generating Co, LLC.

Filed Date: 6/24/20.

Accession Number: 20200624-5188.

Comments Due: 5 p.m. ET 8/24/20.

Docket Numbers: ER12-1195-004; ER10-2310-005; ER10-2314-005; ER10-2311-005; ER15-595-002; ER15-924-002; ER10-2312-005; ER15-926-002; ER15-927-002; ER14-2486-002; ER17-2580-001.

Applicants: Camden County Energy Recovery Associates, L.P., Covanta Delaware Valley, L.P., Covanta Energy Marketing LLC, Covanta Essex Company, Covanta Fairfax, Inc., Covanta Haverhill Associates, LLC, Covanta Hempstead Company, Covanta Niagara I, LLC, Covanta Plymouth Renewable Energy, LLC, Covanta Union, LLC, SEMASS Partnership.

Description: Updated Market Power Analysis for Northeast Region of the Covanta MBR Entities, et al.

Filed Date: 6/24/20.

Accession Number: 20200624-5184.

Comments Due: 5 p.m. ET 8/24/20.

Docket Numbers: ER14-2500-010; ER14-2498-010.

Applicants: Newark Energy Center LLC, EIF Newark, LLC.

Description: Triennial Compliance Filing of Newark Energy Center LLC, et al. under, et al.

Filed Date: 6/24/20.

Accession Number: 20200624-5185.

Comments Due: 5 p.m. ET 8/24/20.

Docket Numbers: ER20-2154-000.

Applicants: PJM Interconnection, L.L.C.

Description: § 205(d) Rate Filing: Original ISA, SA No. 4940; Queue No. AA2-178 (amend) to be effective 2/2/2018.

Filed Date: 6/24/20.

Accession Number: 20200624-5158.

Comments Due: 5 p.m. ET 7/15/20.

Docket Numbers: ER20-2155-000.

Applicants: PJM Interconnection, L.L.C.

Description: § 205(d) Rate Filing: Original WMPA SA No. 5668; Queue No. AE2-079 to be effective 5/28/2020.

Filed Date: 6/25/20.

Accession Number: 20200625-5030.

Comments Due: 5 p.m. ET 7/16/20.

Docket Numbers: ER20-2157-000.

Applicants: Alabama Power Company.

Description: § 205(d) Rate Filing: Dominion Energy South Carolina Interconnection Agreement Amendment Filing to be effective 5/28/2020.

Filed Date: 6/25/20.

Accession Number: 20200625-5047.

Comments Due: 5 p.m. ET 7/16/20.

Docket Numbers: ER20-2158-000.

Applicants: Midcontinent Independent System Operator, Inc., Ameren Illinois Company.

Description: § 205(d) Rate Filing: 2020-06-25_SA 3527 Ameren Illinois-Hoopeston Wind (H094) FSA to be effective 8/25/2020.

Filed Date: 6/25/20.

Accession Number: 20200625-5048.

Comments Due: 5 p.m. ET 7/16/20.

Docket Numbers: ER20-2159-000.

Applicants: Brandon Shores LLC.

Description: § 205(d) Rate Filing: Market-Based Rate Tariff Revisions to be effective 6/26/2020.

Filed Date: 6/25/20.

Accession Number: 20200625-5087.

Comments Due: 5 p.m. ET 7/16/20.

Docket Numbers: ER20-2160-000.

Applicants: Brunner Island, LLC.

Description: § 205(d) Rate Filing: Market-Based Rate Tariff Revisions to be effective 6/26/2020.

Filed Date: 6/25/20.

Accession Number: 20200625-5090.

Comments Due: 5 p.m. ET 7/16/20.

Docket Numbers: ER20-2161-000.

Applicants: Camden Plant Holding, L.L.C.

Description: § 205(d) Rate Filing: Market-Based Rate Tariff Revisions to be effective 6/26/2020.

Filed Date: 6/25/20.

Accession Number: 20200625-5091.

Comments Due: 5 p.m. ET 7/16/20.

Docket Numbers: ER20-2162-000.

Applicants: Dartmouth Power Associates Limited Partnership.

Description: § 205(d) Rate Filing: Market-Based Rate Tariff Revisions to be effective 6/26/2020.

Filed Date: 6/25/20.

Accession Number: 20200625-5092.

Comments Due: 5 p.m. ET 7/16/20.

Docket Numbers: ER20-2163-000.

Applicants: Elmwood Park Power, LLC.

Description: § 205(d) Rate Filing: Market-Based Rate Tariff Revisions to be effective 6/26/2020.

Filed Date: 6/25/20.

Accession Number: 20200625-5107.

Comments Due: 5 p.m. ET 7/16/20.

Docket Numbers: ER20-2164-000.

Applicants: H.A. Wagner LLC.

Description: § 205(d) Rate Filing: Market-Based Rate Tariff Revisions to be effective 6/26/2020.

Filed Date: 6/25/20.

Accession Number: 20200625-5108.

Comments Due: 5 p.m. ET 7/16/20.

Docket Numbers: ER20-2165-000.

Applicants: LMBE Project Company LLC.

Description: § 205(d) Rate Filing: Market-Based Rate Tariff Revisions to be effective 6/26/2020.

Filed Date: 6/25/20.

Accession Number: 20200625-5095.

Comments Due: 5 p.m. ET 7/16/20.

Docket Numbers: ER20-2166-000.

Applicants: Martins Creek, LLC.

Description: § 205(d) Rate Filing: Market-Based Rate Tariff Revisions to be effective 6/26/2020.

Filed Date: 6/25/20.

Accession Number: 20200625-5097.

Comments Due: 5 p.m. ET 7/16/20.

Docket Numbers: ER20-2167-000.

Applicants: MC Project Company LLC.

Description: § 205(d) Rate Filing: Market-Based Rate Tariff Revisions to be effective 6/26/2020.

Filed Date: 6/25/20.

Accession Number: 20200625-5098.

Comments Due: 5 p.m. ET 7/16/20.

Docket Numbers: ER20-2168-000.

Applicants: Millennium Power Partners, L.P.

Description: § 205(d) Rate Filing: Market-Based Rate Tariff Revisions to be effective 6/26/2020.

Filed Date: 6/25/20.

Accession Number: 20200625-5100.

Comments Due: 5 p.m. ET 7/16/20.

Docket Numbers: ER20-2169-000.

Applicants: Montour, LLC.

Description: § 205(d) Rate Filing: Market-Based Rate Tariff Revisions to be effective 6/26/2020.

Filed Date: 6/25/20.

Accession Number: 20200625-5101.

Comments Due: 5 p.m. ET 7/16/20.

Docket Numbers: ER20-2170-000.

Applicants: New Athens Generating Company, LLC.

Description: § 205(d) Rate Filing: Market-Based Rate Tariff Revisions to be effective 6/26/2020.

Filed Date: 6/25/20.

Accession Number: 20200625-5102.

Comments Due: 5 p.m. ET 7/16/20.

Docket Numbers: ER20-2171-000.

Applicants: Pedricktown Cogeneration Company LP.

Description: § 205(d) Rate Filing: Market-Based Rate Tariff Revisions to be effective 6/26/2020.

Filed Date: 6/25/20.

Accession Number: 20200625-5103.

Comments Due: 5 p.m. ET 7/16/20.

Docket Numbers: ER20-2172-000.

Applicants: Susquehanna Nuclear, LLC.

Description: § 205(d) Rate Filing: Market-Based Rate Tariff Revisions to be effective 6/26/2020.

Filed Date: 6/25/20.

Accession Number: 20200625-5105.

Comments Due: 5 p.m. ET 7/16/20.

Docket Numbers: ER20-2173-000.

Applicants: York Generation Company LLC.

Description: § 205(d) Rate Filing: Market-Based Rate Tariff Revisions to be effective 6/26/2020.

Filed Date: 6/25/20.

Accession Number: 20200625-5110.

Comments Due: 5 p.m. ET 7/16/20.

Docket Numbers: ER20-2174-000.

Applicants: Newark Bay Cogeneration Partnership, L.P.

Description: § 205(d) Rate Filing: Market-Based Rate Tariff Revisions to be effective 6/26/2020.

Filed Date: 6/25/20.

Accession Number: 20200625-5112.

Comments Due: 5 p.m. ET 7/16/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 25, 2020.
Nathaniel J. Davis, Sr.,
Deputy Secretary.

[FR Doc. 2020-14161 Filed 6-30-20; 8:45 am]

BILLING CODE 6717-01-P